COMMISSION ON CIVIL RIGHTS

Sunshine Act Meeting

AGENCY: United States Commission on Civil Rights.

ACTION: Notice of business meeting and briefing.

DATE AND TIME: Friday, March 22, 2013; 9:00 a.m. EST.

PLACE: 1331 Pennsylvania Ave. NW., Suite 1150, Washington, DC 20425.

MEETING AGENDA —9:00 a.m.

I. Approval of Agenda

II. Consideration of Public Release of the transcript for the August 2012 Immigration Briefing

III. Adjourn Meeting

BRIEFING AGENDA —9:30 a.m.-12:30 p.m.

This briefing is open to the public.

Topic: Reconciling Non-Discrimination Principles with Civil Liberties

I. Introductory Remarks by Chairman

II. Panel I—9:30 a.m.-10:50 a.m.: Scholars involved in the Hosanna-Tabor v. EEOC, 132 S.Ct. 694 (2012) or Christian Legal Society v. Martinez 130 S.Ct. 2971 (2010) Litigation—Speakers' Remarks and Questions from Commissioners

III. Panel II—11:00 a.m.-12:30 p.m.: Experts will discuss the broader conflict between anti-discrimination norms and civil liberties—Speakers' Remarks and Questions from Commissioners

IV. Adjourn Briefing

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: March 11, 2013.
TinaLouise Martin,
Director of Management/Human Resources.

[FR Doc. 2013-05965 Filed 3-12-13; 11:15 am]

BILLING CODE 6335-01-P